DEPARTMENT OF THE TREASURY

Office of Foreign Assets Control

Additional Designations, Foreign Narcotics Kingpin Designation Act

AGENCY: Office of Foreign Assets Control, Treasury.

ACTION: Notice.

SUMMARY: The U.S. Department of the Treasury's Office of Foreign Assets Control (OFAC) is publishing the names of five individuals and 14 entities whose property and interests in property have been blocked pursuant to the Foreign Narcotics Kingpin Designation Act (Kingpin Act) (21 U.S.C. 1901-1908, 8 U.S.C. 1182).

DATES: The designation by the Director of OFAC of the five individuals and 14 entities identified in this notice pursuant to section 805(b) of the Kingpin Act is effective on February 24, 2015.

FOR FURTHER INFORMATION CONTACT: Assistant Director, Sanctions Compliance & Evaluation, Office of Foreign Assets Control, U.S. Department of the Treasury, Washington, DC 20220, Tel: (202) 622-2490.

SUPPLEMENTARY INFORMATION:

Electronic and Facsimile Availability

This document and additional information concerning OFAC are available on OFAC's Web site at http://www.treasury.gov/ofac or via facsimile through a 24-hour fax-on-demand service at (202) 622-0077.

Background

The Kingpin Act became law on December 3, 1999. The Kingpin Act establishes a program targeting the activities of significant foreign narcotics traffickers and their organizations on a worldwide basis. It provides a statutory framework for the imposition of sanctions against significant foreign narcotics traffickers and their organizations on a worldwide basis, with the objective of denying their businesses and agents access to the U.S. financial system and the benefits of trade and transactions involving U.S. companies and individuals.

The Kingpin Act blocks all property and interests in property, subject to U.S. jurisdiction, owned or controlled by significant foreign narcotics traffickers as identified by the President. In addition, the Secretary of the Treasury, in consultation with the Attorney General, the Director of the Central Intelligence Agency, the Director of the Federal Bureau of Investigation, the Administrator of the Drug Enforcement Administration, the Secretary of Defense, the Secretary of State, and the Secretary of Homeland Security may designate and block the property and interests in property, subject to U.S. jurisdiction, of persons who are found to be: (1) Materially assisting in, or providing financial or technological support for or to, or providing goods or services in support of, the international narcotics trafficking activities of a person designated pursuant to the Kingpin Act; (2) owned, controlled, or directed by, or acting for or on behalf of, a person designated pursuant to the Kingpin Act; or (3) playing a significant role in international narcotics trafficking.

On February 24, 2015, the Director of OFAC designated the following five individuals and 14 entities whose property and interests in property are blocked pursuant to section 805(b) of the Kingpin Act.

Individuals

1. DONKO, Dejan, Na Brezno 42, Brezovica pri Ljubljani 1351, Slovenia; DOB 01 Aug 1974; POB Murska Sobota, Slovenia; nationality Slovenia; Passport P00095070 (Slovenia); Registration ID 0108974500707 (Slovenia) (individual) [SDNTK] (Linked To: PANACEA INTERNATIONAL LTD.).

2. KARNER, Matevz (a.k.a. KOVAC, Matevz), Malci Beliceve 107, Ljubljana, Slovenia; DOB 19 Jul 1978; POB Ljubljana, Slovenia; nationality Slovenia; Passport P01104005 (Slovenia); Registration ID 1907978500063 (Slovenia) (individual) [SDNTK] (Linked To: BAMEX LIMITED; Linked To: PALEA D.O.O.; Linked To: KARNER D.O.O. LJUBLJANA; Linked To: PABAS HOLDING CORP.).

3. KARNER, Alenka (a.k.a. HRIBAK, Alenka; a.k.a. HRIBAR, Alenka), IV-044 Rozna Dolina Cesta, Ljubljana, Slovenia; DOB 04 Sep 1978; POB Ljubljana, Slovenia; citizen Slovenia; Registration ID 0409978505053 (Slovenia) (individual) [SDNTK].

4. SLIVNIK, Uros, Malci Beliceve 36, Ljubljana, Slovenia; DOB 05 May 1979; Passport P01095514 (Slovenia) (individual) [SDNTK] (Linked To: VELINVESTMENT D.O.O.; Linked To: SAGAX INVESTMENT GROUP LTD.).

5. STJEPANOVIC, Savo; DOB 11 Apr 1976; POB Ljubljana, Slovenia; nationality Slovenia; Passport P00787190 (Slovenia); Registration ID 1104976500095 (Slovenia) (individual) [SDNTK] (Linked To: SIS D.O.O.; Linked To: NORTHSTAR TRADING CORPORATION).

Entities

6. AMMERSHAM COMMERCIAL VENTURES LIMITED, Victoria, Seychelles; PostFach 432, Klagenfurt, Austria; Certificate of Incorporation Number 006939 (Seychelles) [SDNTK].

7. BAMEX LIMITED, PostFach 52, Klagenfurt 9023, Austria; Company Number 94593 (Gibraltar) [SDNTK].

8. KALLIOPE LIMITED, Suite 2, Portland House, Glacis Road, Gibraltar; Company Number 89681 (Gibraltar) [SDNTK].

9. KARNER D.O.O. LJUBLJANA, 177 V Murglah, Ljubljana 1000, Slovenia; Registration ID 5621208 (Slovenia); Tax ID No. 16437748 (Slovenia) [SDNTK].

10. MERIDEIS D.O.O. (f.k.a. NIPL D.O.O.), 27 Vilharjeva Cesta, Ljubljana 1000, Slovenia; Registration ID 71071784 (Slovenia) [SDNTK].

11. NORTH GROUP HOLDING CORP.; RUC # 1932244-1-728269 (Panama) [SDNTK].

12. NORTHSTAR TRADING CORPORATION (a.k.a. SYNERGY CONSULTANTS LIMITED), Victoria, Seychelles; Certificate of Incorporation Number 006971 (Seychelles) [SDNTK].

13. PABAS HOLDING CORP.; RUC # 1428011-1-633523 (Panama) [SDNTK].

14. PALEA D.O.O. (a.k.a. PALEA LTD.), 57 B Tbilisijska Ulica, Ljubljana 1000, Slovenia; Registration ID 2227843 (Slovenia); Tax ID No. SI29769221 (Slovenia) [SDNTK].

15. PANACEA INTERNATIONAL LTD., Copthall, P.O. Box 2331, Roseau, Dominica [SDNTK].

16. PANYA AG, Liechtenstein; Registration ID FL00023080583 (Liechtenstein) [SDNTK].

17. SAGAX INVESTMENT GROUP LTD., Suite 102, Blake Building, Corner Eyre & Hutson Street, Belize City 78583, Belize [SDNTK].

18. SIS D.O.O., 19 Spruha, Trzin 1236, Slovenia; Registration ID 5919070 (Slovenia); Tax ID No. SI91729181 (Slovenia) [SDNTK].

19. VELINVESTMENT D.O.O., Vilharjeva Cesta 27, Ljubljana 1000, Slovenia; Registration ID 2333970 (Slovenia); Tax ID No. SI26557576 (Slovenia) [SDNTK].

In addition, OFAC has made additions to the identifying information for the following individual previously designated pursuant to the Kingpin Act:

20. KARNER, Mihael (a.k.a. TOPOLOVEC, Jozef), Locnikarijeva ulica 7, 1000, Ljubljana, Slovenia; Rozna Dolina, Cesta IV 44, Ljubljana, Slovenia; V Murglah 177, Ljubljana, Slovenia; DOB 13 Mar 1975; POB Ljubljana, Slovenia; nationality Slovenia; Passport PZ2420022110 (Slovenia); alt. Passport PB06005902 (Slovenia); Personal ID Card 00246412491303975500493 (Slovenia) expires 17 Dec 2018; alt. Personal ID Card 002464124 (Slovenia) expires 17 Dec 2018 (individual) [SDNTK] (Linked To: MERIDEIS D.O.O.; Linked To: PANYA AG; Linked To: VELINVESTMENT D.O.O.; Linked To: SAGAX INVESTMENT GROUP LTD.; Linked To: KALLIOPE LIMITED; Linked To: KARNER D.O.O. LJUBLJANA; Linked To: NORTHSTAR TRADING CORPORATION; Linked To: AMMERSHAM COMMERCIAL VENTURES LIMITED; Linked To: NORTH GROUP HOLDING CORP.).

Dated: February 24, 2015.
John E. Smith,
Acting Director, Office of Foreign Assets Control.

[FR Doc. 2015-04401 Filed 3-2-15; 8:45 am]

BILLING CODE 4810-AL-P